DEPARTMENT OF TRANSPORTATION

Office of the Secretary

Aviation Proceedings, Agreements Filed During the Week Ending February 2, 2001

The following Agreements were filed with the Department of Transportation under the provisions of 49 U.S.C. sections 412 and 414. Answers may be filed within 21 days after the filing of the application.

Docket Number: OST-2001-8789.

Date Filed: January 29, 2001.

Parties: Members of the International Air Transport Association.

Subject: PTC23 EUR-SASC 0074 Dated: 26 January 2001, Expedited Europe-South Asian Subcontinent Resolution 002b, Intended effective date: 1 March 2001.

Docket Number: OST-2001-8810.

Date Filed: January 30, 2001.

Parties: Members of the International Air Transport Association.

Subject: PTC12 USA-EUR Fares 0053 dated 30 January 2001, Resolution 015h—USA Add-on Amounts between USA and UK, Intended effective date: 1 April 2001.

Docket Number: OST-2001-8837.

Date Filed: January 31, 2001.

Parties: Members of the International Air Transport Association.

Subject: PTC3 0464 dated 19 December 2000, TC3 Areawide Resolutions r1—r10, PTC3 0465 dated 19 December 2000, TC3 Within South Asian Subcontinent Resolutions, r11—r19, PTC3 0466 dated 19 December 2000, TC3 Within South East Asia Resolutions r20—r-31, PTC3 0467 dated 19 December 2000, TC3 Within South West Pacific Resolutions r32—r37, PTC3 0468 dated 19 December 2000, TC3 between South East Asia and South Asian Subcontinent, Resolutions r38—r46, PTC3 0469 dated 19 December 2000, TC3 between South Asian Subcontinent and South West Pacific, Resolutions r47—r54, PTC3 0470 dated 19 December 2000, TC3 between South East Asia and South West Pacific, Resolutions r55—r59, Minutes—PTC3 0478 dated 23 January 2001, Tables—PTC3 Fares 0135 dated 19 December 2000, PTC3 Fares 0136 dated 19 December 2000, PTC3 Fares 0137 dated 19 December 2000, PTC3 Fares 0139 dated 19 December 2000, PTC3 Fares 0140 dated 19 December 2000, PTC3 Fares 0142 dated 19 December 2000, Intended effective date: 1 April 2001.

Docket Number: OST-2001-8838.

Date Filed:January 31, 2001.

Parties: Members of the International Air Transport Association.

Subject: PTC3 0471 dated 19 December 2000, TC3 between Japan and Korea Resolutions r1—r12, PTC3 0472 dated 19 December 2000, TC3 between Japan, Korea and South Asian Subcontinent, Resolutions r13—r27, PTC3 0473 dated 19 December 2000, TC3 between Japan, Korea and South East Asia, Resolutions r28—r56, PTC3 0474 dated 19 December 2000, TC3 between Japan, Korea and South West Pacific, Resolutions r57—r105, Minutes—PTC3 0478 dated 23 January 2001, Tables—PTC3 Fares 0138 dated 19 December 2000, PTC3 Fares 0141 dated 19 December 2000, PTC3 Fares 0143 dated 19 December 2000, PTC3 Fares 0144 dated 19 December 2000, Intended effective date: 1 April 2001.

Dorothy Y. Beard,
Federal Register Liaison.

[FR Doc. 01-4273 Filed 2-20-01; 8:45 am]

BILLING CODE 4910-62-P